DEPARTMENT OF ENERGY

Federal Energy Regulatory Commission

[Docket No. RP06-365-000; Docket No. RP06-231-002]

Columbia Gas Transmission Corporation; Norstar Operating, LLC v. Columbia Gas Transmission Corporation; Notice of Technical Conference

June 29, 2006.

Take notice that the Commission will convene a technical conference in reference to the above-captioned proceeding on Tuesday, July 25, 2006, at 9 a.m. (EDT), in a room to be designated at the offices of the Federal Energy Regulatory Commission, 888 First Street, NE., Washington, DC 20426.

The Commission's June 21, 2006 order in this proceeding directed that a technical conference be held to address the technical, engineering and operational issues raised by Columbia Gas Transmission Corporation's (Columbia) proposed gas quality specifications filed in Docket No. RP06-365-000.¹ The order also found that Columbia's filing in Docket No. RP06-231-002 revising section 25.5(e) of its General Terms and Conditions should be addressed at the technical conference.

¹ Columbia Gas Transmission Corporation, 115 FERC ¶ 61,351 (2006).

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact David Faerberg at (202) 502-8275 or e-mail david.faerberg@ferc.gov.

Magalie R. Salas,
Secretary.

[FR Doc. E6-10614 Filed 7-6-06; 8:45 am]

BILLING CODE 6717-01-P